DEPARTMENT OF THE INTERIOR

Bureau of Land Management

[LLWYR05000 L51100000.GN0000.LVEMK13CY200]

Notice of Intent To Prepare an Environmental Impact Statement for the Lower Gas Hills Conventional Uranium Project, Fremont County, WY

AGENCY: Bureau of Land Management, Interior.

ACTION: Notice.

SUMMARY: Pursuant to the National Environmental Policy Act of 1969, as amended (NEPA) and the Federal Land Policy and Management Act of 1976, as amended (FLPMA), and in response to a proposal filed by Strathmore Resources (US), LTD (Strathmore), the Bureau of Land Management (BLM), Lander Field Office, Wyoming, intends to prepare an Environmental Impact Statement (EIS). By this notice, the BLM is announcing the beginning of the scoping process to solicit public comments regarding issues and resource information for the proposed Lower Gas Hills Conventional Uranium Project (Project) in Fremont County, Wyoming. The Project is a proposed uranium exploration and development project employing open pit mining methods and using heap leach methods for uranium recovery.

DATES: This notice initiates the public scoping process. The BLM can best consider public input if comments and resource information are submitted within 60 days of publication of this notice. To provide the public with an opportunity to review the proposal and project information, the BLM will host public meetings in Lander and Riverton, Wyoming; and will announce the dates, times, and locations for these meetings at least 15 days prior to each event. Announcements will be made by news release to the news media and individual mailings, and posted on the project Web site listed below. Project information and documents including the submitted Plan of Operations will be available on the Project Web site address given below.

ADDRESSES: You may submit written comments by any of the following methods:

• Email: BLM_WY_Lower_Gas_Hills_Conventional_Mine@blm.gov.

• Mail: Lander Field Office, Attn: Kristin Yannone, 1335 Main Street, Lander, WY 82520.

• Project Web site: http://www.blm.gov/wy/st/en/info/NEPA/documents/lfo/LowerGasHillsConvMine.html.

Documents pertinent to this proposal may be examined at the Lander Field Office.

FOR FURTHER INFORMATION CONTACT: Kristin Yannone, Project Manager, at:

• Telephone: 307-332-8400;

• Address: 1335 Main Street, Lander, Wyoming 82520;

• Email: kyannone@blm.gov.

Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: The Lander Field Office intends to prepare an EIS to inform decision-making regarding the proposed Lower Gas Hills Conventional Uranium Project and to begin the public scoping period. The BLM seeks public input on the preliminary issues identified below regarding this Project, as well as other Project issues of public concern. The Project area is located in central Wyoming; 45 miles east of Riverton, 35 miles southwest of Casper, and 70 miles northeast of Lander, Wyoming, in the Gas Hills Mining District of Fremont County, Wyoming. The Project area encompasses approximately 12,400 acres of land, 11,040 acres of which is public land administered by the BLM Lander Field Office. Uranium mining activities have been active in the Gas Hills area since the early 1950s; as a result the proposed project area contains land surface disturbance and variably effective mine land reclamation efforts. In November 2012, Strathmore submitted a Preliminary Plan of Operations in accordance with the BLM's surface management regulations at 43 CFR part 3809 to develop a conventional uranium mining and heap leach recovery operation. The purpose of the proposed Project is to explore for and identify mining reserves and extract and process uranium ore from 4 separate mine units over an anticipated project life of 12 or more years. Strathmore proposes to construct four different mine units in a phased manner utilizing open pit mining methods.

Several mine units will require dewatering of existing open pits prior to and during mining of new open pits. Waste rock and ore material will be stored at the surface during mining, and mine facilities will be constructed at each mine unit. Haul roads will be constructed or re-occupied for ore material to be transported to the central processing facility. Uranium recovery will be performed on-site using heap leach methods and a processing facility to produce yellowcake (uranium oxide-U3O8). Strathmore proposes to construct a centrally located uranium recovery facility consisting of a heap leach pad, solution exchange building, and drying facility with ancillary collection and drainage ponds.

Anticipated new surface disturbance associated with the Lower Gas Hills Conventional Uranium Project proposal will include approximately 2,000 total acres; including surface disturbance for the construction of open pits, haul roads, spoils piles and associated facilities. Surface disturbance will be phased over several years, depending on the uranium production rate and the availability of mine construction equipment and personnel. Final surface reclamation is required by regulatory agencies and assured through procurement of a financial guarantee.

The BLM's analysis of any potential impacts from granting surface use authorization for the milling facility and water disposal operations are in addition to the environmental analysis conducted by the Nuclear Regulatory Commission as part of its permitting process.

Final reclamation will commence at the end of surface mining, including placing all mine overburden and spoil back in the mine pits, removing all ponds and buried piping, and re-grading and re-vegetating the disturbed surface with approved native plant species. After vegetation has been reestablished, the mine surface will be returned to its pre-mining use of livestock grazing and wildlife habitat or any other use consistent with the applicable land use plan.

Depending on the residual radiological hazards found to be present within the mill site or processing part of the Project area, ownership of the reclaimed surface may be required to be transferred to the Department of Energy for long-term custodian care until contamination is deemed to no longer be a threat to public health and safety. Strathmore estimates that the Project will employ a mix of full-time personnel and temporary contractors throughout the life of the mine. It is likely that the majority of employees will live in Riverton and Lander and, to a lesser extent, Casper, Wyoming. The Project is expected to provide an economic benefit through a variety of taxes paid to Federal, State, and local governments including employee income taxes, severance taxes, property taxes, and sales taxes.

The Project is in conformance with the 1987 Lander Resource Management Plan and Final Environmental Impact Statement (RMP/Final EIS) and with all of the alternatives in the Final EIS (2013) revising the Lander RMP. During the preparation of the Project EIS, interim exploration and development will be subject to development guidelines and decisions made in applicable NEPA documents, including the Lander RMP and subsequent revisions. The Project EIS will analyze the environmental consequences of approving the Project as proposed, while considering other alternatives including a No Action Alternative.

The purpose of public scoping is to determine relevant issues that will influence the scope of the environmental analysis and range of reasonable alternatives in the Project EIS. At present, the BLM has identified the following preliminary issues: Potential effects to air and water quality; potential effects on existing land uses and previous mine reclamation activities; potential effects of uranium mining and production on surface resources including vegetation, soil, wildlife habitat and livestock grazing; concerns about risks from radioactive or other hazardous elements; and concerns about post-mining management of the project area.

The BLM will utilize and coordinate the NEPA scoping process to help fulfill the public involvement process under Section 106 of the National Historic Preservation Act (16 U.S.C. 470f) as provided in 36 CFR 800.2(d)(3). Native American tribal consultations will be conducted in accordance with policy, and tribal concerns will be given due consideration, including impacts on Indian trust assets. Federal, State, and local agencies, along with other stakeholders who may be interested in or affected by the BLM's decision on this project, are invited to participate in the scoping process and, if eligible, may request or be requested by the BLM to participate as a cooperating agency. Before including your address, phone number, email address, or other personal identifying information in your comment, you should be aware that your entire comment—including your personal identifying information—may be made publicly available at any time. While you may request in your comment to withhold your personal identifying information from public review, it cannot be guaranteed that personal information will be withheld.

Authority: 40 CFR 1501.7.

Dated: May 20, 2013.
Donald A. Simpson,
State Director.

[FR Doc. 2013-16631 Filed 7-11-13; 8:45 am]

BILLING CODE 4310-22-P